DEPARTMENT OF JUSTICE

Notice of Lodging of Proposed Consent Decree Under the Clean Water Act

On August 19, 2016, the Department of Justice lodged a proposed Consent Decree with the United States District Court for the District of Massachusetts in the lawsuit entitled United States v. City of Haverhill, Civil Action No. 16-cv-11698-IT.

In the Complaint, the United States, on behalf of the U.S. Environmental Protection Agency (EPA), alleges that the defendant City of Haverhill violated the Clean Water Act (CWA), 33 U.S.C. 1251, et seq., and applicable regulations relating to the City's failure to comply with its National Pollutant Discharge Elimination System permit and its Small Municipal Separate Storm Sewer System permit under the CWA. The proposed Consent Decree requires the City to pay a civil penalty of $125,000 and undertake measures to achieve compliance with the CWA and applicable regulations. In addition, as a Supplemental Environmental Project the City will restore a riverbank area near Riverside Park on the Merrimack River.

The publication of this notice opens a period for public comment on the Consent Decree. Comments should be addressed to the Assistant Attorney General, Environment and Natural Resources Division, and should refer to United States v. City of Haverhill, D.J. Ref. No. 90-5-1-1-10992. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $20.25 (25 cents per page reproduction cost), not including Appendices, payable to the United States Treasury.

Robert E. Maher, Jr.,
Assistant Chief, Environmental Enforcement Section, Environment & Natural Resources Division.

[FR Doc. 2016-20947 Filed 8-30-16; 8:45 am]

BILLING CODE 4410-15-P